DEPARTMENT OF THE INTERIOR

Bureau of Land Management

[AZ-050-03-1232-EB-AZ11; 8371]

Notice of Final Supplementary Rules on Public Lands Within All Arizona and California Long-Term Visitor Areas

AGENCY: Bureau of Land Management, Interior.

ACTION: Publication of supplementary rules for Long-Term Visitor Areas managed by the California Desert District Office, California and Yuma Field Office, Arizona.

SUMMARY: The Bureau of Land Management (BLM) Yuma Field Office, Palm Springs Field Office, and El Centro Field Office are publishing revised supplementary rules applying to the Long-Term Visitor Area (LTVA) Program. The program, which was instituted in 1983, established designated LTVAs and identified an annual long-term use season from September 15 to April 15. During the long-term season, visitors who wish to camp on public lands in one location for extended periods must stay in the designated LTVAs and purchase an LTVA permit. The revised supplementary rules are necessary to allow safe accommodation by BLM of increasing demand for long-term winter visitation and provide for protection of natural resources through improved management.

EFFECTIVE DATE: March 3, 2004.

ADDRESSES: You may direct inquiries or suggestions to the following: Internet e-mail: Mark_Lowans@blm.gov. Mail, personal, or messenger delivery: Yuma Field Office, 2555 Gila Ridge Road, Yuma, AZ 85365 (Attention: Mark Lowans); Palm Springs Field Office, P.O. Box 581260 (690 West Garnet Ave.), North Palm Springs, CA 92258 (Attention: Mona Daniels); or El Centro Field Office, 1661 South 4th Street, El Centro, CA 92243 (Attention: Dallas Meeks).

FOR FURTHER INFORMATION CONTACT: Mark Lowans, Outdoor Recreation Planner, telephone (928) 317-3210; Mona Daniels, Outdoor Recreation Planner, telephone (760) 251-4800; or Dallas Meeks, Outdoor Recreation Planner, telephone (760) 337-4400; or by e-mail: Mark_Lowans@blm.gov.

SUPPLEMENTARY INFORMATION:

I. Background

The proposed supplementary rules were published in the Federal Register on December 12, 2002 (67 FR 76414), allowing 30 days for public comment. BLM received no public comments on the proposed supplementary rules. Therefore, we are publishing these supplementary rules in final form unchanged from the proposal.

II. Discussion of the Supplementary Rules

These supplementary rules apply to all lands within designated Long-Term Visitor Areas in Arizona and California. The BLM has determined these supplementary rules are necessary to protect the natural resources and to provide for safe public recreation and public health, to reduce the potential for damage to the environment, and to enhance the safety of visitors. The purpose of the LTVA program is to provide areas for long-term winter camping use. The sites designated as LTVAs are, in most cases, the traditional use areas of long-term visitors. Designated sites were selected using criteria developed during the land management planning process, and BLM wrote environmental assessments for each site location.

The program was established for safe and proper accommodation of the increasing demand for long-term winter visitation and for natural resource protection through improved management of this use. The designation of LTVAs ensures that specific locations are available for long-term use year after year, and that inappropriate areas are not used for extended periods.

Visitors may camp without an LTVA permit outside LTVAs for up to 14 days in any 28-day period, on public lands not otherwise posted or closed to camping.

The authority for the designation of LTVAs is contained in 43 CFR 8372.0-3 and 8372.0-5(g). The authority for the establishment of an LTVA program is contained in 43 CFR 8372.1. The authority for the payment of fees is contained in 36 CFR 71. The authority for establishing supplementary rules is contained in 43 CFR 8365.1-6.

The LTVA supplementary rules have been developed to meet the goals of individual resource management plans. These rules are available in each local office having jurisdiction over the lands, sites, or facilities affected, and are posted near and/or within the lands, sites, or facilities affected.

Violations of supplementary rules are punishable by a fine not to exceed $100,000 and/or imprisonment not to exceed 12 months, as provided in Section 303 of the Federal Land Policy and Management Act (43 U.S.C. 1733), and the Sentencing Reform Act (18 U.S.C. 3571).

Upon internal review of the proposed supplementary rules, we have made a few changes in the supplementary rules.

We have amended Section 1 to adjust the fees you must pay for LTVA permits. As a result of the increasing program costs each year for the LTVAs, we have raised the fees from $125.00 to $140.00 for the long-term permit and from $25.00 to $30.00 for the short-term permit and each 14-day renewal of a short-term permit.

We have amended Section 4, Permit Revocation, to include misconduct of your pets as grounds for revocation of your permit, in order to protect the health, safety, and welfare of other visitors.

We have revised Section 12, Livestock, to read “No boarding or keeping livestock (horses, cattle, sheep, goats, etc.) within LTVA boundaries is permitted.” This change is intended to remove the health concerns that have arisen when livestock have been boarded in close proximity with campers for extended periods of time.

Section 25, Aircraft Use, has been modified to read “Do not land or take off an aircraft, including ultralights and hot air balloons, in LTVAs, unless an authorized BLM officer approves in advance.” This rule was originally too restrictive and ambiguous in its structure. Adding the last phrase provides the BLM with the latitude of authorizing access for emergency aircraft if ever needed.

Section 26, Perimeter Camping, has been modified to reduce the 2-mile restriction on camping outside Midland LTVA to 1 mile. We have determined that the broader buffer zone is unnecessary.

In addition, we have corrected editorial and typographical errors that appeared in the proposed supplementary rules.

III. Procedural Information

Executive Order 12866, Regulatory Planning and Review

These supplementary rules are not a significant regulatory action and are not subject to review by the Office of Management and Budget under Executive Order 12866. These supplementary rules will not have an effect of $100 million or more on the economy. They are directed at the effective management of developed Long-Term Visitor Areas. They will not adversely affect, in a material way, the economy, productivity, competition, jobs, the environment, public health or safety, or State, local, or tribal governments or communities. These supplementary rules do not create a serious inconsistency or otherwise interfere with an action taken or planned by another agency. The supplementary rules do not alter the budgetary effects of entitlements, grants, user fees, or loan programs or the rights or obligations of their recipients; nor do they raise novel legal or policy issues.

National Environmental Policy Act

BLM has prepared environmental assessment documents including the Yuma District Resource Management Plan and Environmental Impact Statement dated 1988; La Posa Interdisciplinary Management Plan and Environmental Assessment dated July 1997; California Desert Conservation Area Plan as amended and final Environmental Impact Statement and Proposed Plan dated 1980, and has found that the supplementary rules do not constitute a major Federal action significantly affecting the quality of the human environment under section 102(2)(C) of the National Environmental Policy Act of 1969 (NEPA), 42 U.S.C. 4332(2)(C). The supplementary rules enable effective BLM management of its Long-Term Visitor Areas for the public. BLM has placed the Environmental Assessment (EA) and the Finding of No Significant Impact (FONSI) on file in the BLM Administrative Record at the first address specified in the ADDRESSES section.

Regulatory Flexibility Act

Congress enacted the Regulatory Flexibility Act of 1980, as amended, 5 U.S.C. 601-612, (RFA) to ensure that Government regulations do not unnecessarily or disproportionately burden small entities. The RFA requires a regulatory flexibility analysis if a rule would have a significant economic impact either detrimental or beneficial, on a substantial number of small entities.

The supplementary rules do not pertain specifically to commercial or governmental entities of any size, but contain rules to protect the health and safety of individuals, property, and resources on the public lands. Therefore, BLM has determined under the RFA that these supplementary rules do not have a significant economic impact on a substantial number of small entities.

Small Business Regulatory Enforcement Fairness Act (SBREFA)

These supplementary rules do not constitute a major rule as defined in SBREFA at 5 U.S.C. 804(2). Again, the supplementary rules pertain only to individuals who wish to camp on public lands. In this respect, the regulation of such use is necessary to protect the public lands, facilities, and those, including small business concessionaires, who use them. The supplementary rules have no effect on business, commercial, or industrial use of the public lands.

Unfunded Mandates Reform Act

These supplementary rules do not impose an unfunded mandate on State, local, or tribal governments or the private sector of more than $100 million per year; nor do these supplementary rules have a significant or unique effect on state, local, or tribal government or the private sector. The supplementary rules do not require anything of state, local, or tribal governments. Therefore, the BLM is not required to prepare a statement containing the information required by the Unfunded Mandates Reform Act (2 U.S.C. 1531 et seq.).

Executive Order 12630, Governmental Actions and Interference With Constitutionally Protected Property Rights (Takings)

The supplementary rules do not represent a government action capable of interfering with constitutionally protected property rights. The supplementary rules do not address property rights in any form, and do not cause the impairment of anyone's property rights. Therefore, the Department of the Interior has determined that the supplementary rules do not cause a taking of private property or require further discussion of takings implications under this Executive Order.

Executive Order 13132, Federalism

The supplementary rules will not have a substantial direct effect on states, on the relationship between the national government and the states, or on the distribution of power and responsibilities among the various levels of government. The supplementary rules apply in Arizona and California, but do not address jurisdictional issues involving those State governments. Therefore, in accordance with Executive Order 13132, BLM has determined that these supplementary rules do not have sufficient Federalism implications to warrant preparation of a Federalism Assessment.

Executive Order 13175, Consultation and Coordination With Indian Tribal Governments

In accordance with E.O. 13175, we have found that these final supplementary rules do not include policies that have tribal implications. Since the rules do not change BLM policy and do not involve Indian trust lands or resources, we have determined that the government-to-government relationships should remain unaffected.

Executive Order 13211, Actions Concerning Regulations That Significantly Affect Energy Supply, Distribution, or Use

These final supplementary rules do not comprise a significant energy action. The rules will not have an adverse effect on energy supplies, production, or consumption. They merely establish rules of conduct for certain visitor areas.

Paperwork Reduction Act

The supplementary rules do not contain information collection requirements that the Office of Management and Budget must approve under the Paperwork Reduction Act of 1995, 44 U.S.C. 3501 et seq.

Author

The principal author of these supplementary rules is Mervin G. Boyd of the Yuma, Arizona, Field Office assisted by Ted Hudson of the Regulatory Affairs Group, Washington Office, BLM.

For the reasons stated in the Preamble, and under the authority of 43 CFR 8365.1-6, the Bureau of Land Management promulgates supplementary rules for public lands in Arizona and California, to read as follows:

Dated: December 12, 2003.
Elaine Y. Zielinski,
State Director, Arizona.
Mike Pool,
State Director, California.

Supplementary Rules on Use of Long-Term Visitor Areas in Arizona and California

The following are the supplementary rules for the designated Long-Term Visitor Areas (LTVAs) and are in addition to rules of conduct set forth in 43 CFR subpart 8365. The supplementary rules apply year-long to all public land users who enter the LTVAs.

Sec.1. The Permit Requirements and Fees

You must have a permit to camp in a designated LTVA between September 15 and April 15. The permit authorizes you to camp within any designated LTVA using those camping or dwelling unit(s) indicated on the permit between the period from September 15 to April 15. There are two types of permits: Long-term and Short-visit. The long-term permit fee is $140.00, U.S. funds only, for the entire season and any part of the season. The short-term permit is $30.00, U.S. funds only, for 14 consecutive days. The short-visit permit may be renewed an unlimited number of times for the cost of $30.00 for 14 consecutive days. BLM will not refund permit fees.

Sec. 2. Displaying the Permit

To make it valid, at the time of purchase, you must affix your short-visit permit decal or long-term permit decal, using the adhesive backing, to the bottom right-hand corner of the windshield of all transportation vehicles and in a clearly visible location on all camping units. You may use no more than 2 secondary vehicles within the LTVA.

Sec. 3. Permit Transfers

You may not reassign or transfer your permit.

Sec. 4. Permit Revocation

An authorized BLM officer may revoke, without reimbursement, your LTVA permit if you violate any BLM rule or regulation, or if your conduct or that of your family, guest, or pets is inconsistent with the goal of BLM's LTVA Program. Failure to return any LTVA permit to an authorized BLM officer upon demand is a violation of these supplementary rules. If BLM revokes your permit, you must remove all of your property and leave the LTVA system within 12 hours of notice, and you may not enter any other LTVA in Arizona or California for the remainder of the LTVA season.

Sec. 5. Unoccupied Camping Units

Do not leave your LTVA camping unit or campsite unoccupied for a period of more than 5 days unless an authorized BLM officer approves in advance.

Sec. 6. Parking

For your safety and privacy, you must maintain a minimum of 15 feet of space between dwelling units.

Sec. 7. Removal of Wheels and Campers

Campers, trailers, and other dwelling units must remain mobile. Wheels must remain on all wheeled vehicles. You may set trailers and pickup campers on jacks manufactured for that purpose.

Sec. 8. Quiet Hours

Quiet hours are from 10 p.m. to 6 a.m. under applicable state time zone standards, or as otherwise posted.

Sec. 9. Noise

Do not operate audio devices or motorized equipment, including generators, in a manner that makes unreasonable noise as determined by the authorized BLM officer. Outdoor amplified music is allowed only within La Posa and Imperial Dam LTVAs and only in locations designated by BLM and when approved in advance by an authorized BLM officer.

Sec. 10. Access

Do not block roads or trails commonly in public use with your parked vehicles, stones, wooden barricades, or by any other means.

Sec. 11. Structures and Landscaping

a. Fixed fences, dog runs, storage units, windbreaks, and other such structures are prohibited. Temporary structures of these types must conform to posted policies.

b. Do not alter the natural landscape by painting rocks or defacing or damaging any natural or archaeological feature.

Sec. 12. Livestock

Do not board or keep livestock (horses, cattle, sheep, goats, etc.) within LTVA boundaries.

Sec. 13. Pets

Pets must be kept on a leash at all times. Keep an eye on your pets. Unattended and unwatched pets may fall prey to coyotes or other desert predators. You are responsible for clean-up and sanitary disposal of your pet's waste.

Sec. 14. Cultural Resources

Do not disturb any archaeological or historical values including, but not limited to, petroglyphs, ruins, historic buildings, and artifacts that may occur on public lands.

Sec. 15. Trash

You must place all trash in designated receptacles. Public trash facilities are shown in the LTVA brochure. Do not deposit trash or holding-tank sewage in vault toilets. An LTVA permit is required for trash disposal within all LTVA campgrounds. You may not change motor oil, vehicular fluids, or dispose of or possess these used substances within an LTVA.

Sec. 16. Dumping

Do not dump sewage, gray water, or garbage on the ground. This includes motor oil and any other waste products: Federal, state, and county sanitation laws and county ordinances specifically prohibit these practices. Sanitary dump station locations are shown in the LTVA brochure. You must have an LTVA permit for dumping within all LTVA campgrounds.

Sec. 17. Self-Contained Vehicles

a. In Pilot Knob, Midland, Tamarisk, and Hot Springs LTVAs, you may camp only in self-contained camping units. The La Posa, Imperial Dam, and Mule Mountain LTVAs are restricted to self-contained camping units, except within 500 feet of a vault toilet or rest room.

b. Self-contained camping units must have a permanent affixed waste water holding tank of 10-gallon minimum capacity. BLM does not consider port-a-potty systems, or systems that utilize portable holding tanks, or permanent holding tanks of less than 10-gallon capacity, to be self-contained.

Sec. 18. Campfires

You may have campfires in LTVAs subject to all local, state, and Federal regulations. You must comply with posted rules.

Sec. 19. Wood Collection

Do not collect wood within LTVAs. You may not possess native firewood (i.e., mesquite, ironwood, palo verde) within LTVAs. Please contact the nearest BLM office for current regulations concerning wood collection.

Sec. 20. Speed Limit

The speed limit in LTVAs is 15 miles per hour or as otherwise posted.

Sec. 21. Off-Highway Vehicle Use

Motorized vehicles must remain on existing roads, trails, and washes.

Sec. 22. Vehicle Use

Do not operate any vehicle in violation of state or local laws and regulations relating to use, standards, registration, operation, and inspection.

Sec. 23. Firearms

Do not discharge or otherwise use firearms or weapons inside or within 1/2 mile of LTVAs.

Sec. 24. Vending Permits

You must have a vending permit to carry on any commercial activity. Please contact the nearest BLM office for information on vending or concession permits.

Sec. 25. Aircraft Use

Do not land or take off an aircraft, including ultralights and hot air balloons, in LTVAs, unless an authorized BLM officer approves in advance.

Sec. 26. Perimeter Camping

Do not camp within 1 mile outside the boundaries of Hot Spring, Tamarisk, Pilot Knob, and Midland LTVAs.

Sec. 27. Hot Spring Spa and Day Use Area

Do not consume, possess, or use food, beverages, glass containers, soap, pets, or motorized vehicles within the fenced-in area at the Hot Springs Spa. Day use hours are 5 a.m. to midnight.

Sec. 28. Mule Mountain LTVA

You may camp only at designated sites within Wiley's Well and Coon Hollow campgrounds. You may have only one (1) camping or dwelling unit per site.

Sec. 29. Imperial Dam and La Posa LTVAs

Do not camp overnight in desert washes in Imperial Dam and La Posa LTVAs.

Sec. 30. La Posa LTVA

You may enter La Posa LTVA only at legal access roads along U.S. Highway 95. Do not create or use any other access points. Do not remove or modify barricades, such as fences, ditches, and berms.

Sec. 31. Posted Rules

You must observe and obey all posted rules. Individual LTVAs may have additional specific rules in addition to these supplementary rules. If posted rules differ from these supplementary rules, the posted rules take precedence.

Sec. 32. Other Laws

If you hold an LTVA permit, you must observe and obey all Federal, state, and local laws and regulations applicable to the LTVA.

Sec. 33. Campsite Maintenance

You must keep the LTVA and, specifically, your campsite, in a neat, orderly, and sanitary condition.

Sec. 34. Length of Stay

Between April 16 and September 14 you may stay in an LTVA only 14 days in any 28-day period. After your 14th day of occupation at an LTVA, you must move outside of a 25-mile radius of that LTVA.

Sec. 35. Penalties

Under the Federal Land Policy and Management Act of 1976 (43 U.S.C. 1733(a)), if you knowingly and willfully violate or fail to comply with any of the supplementary rules provided in this notice, BLM may revoke your LTVA permit, and you may be subject to a fine under 18 U.S.C. 3571 or other penalties in accordance with 43 U.S.C. 1733.

[FR Doc. 04-2057 Filed 1-30-04; 8:45 am]

BILLING CODE 4310-32-P